DEPARTMENT OF HEALTH AND HUMAN SERVICES

Office of the Secretary

Findings of Misconduct in Science

AGENCY: Office of the Secretary, HHS.

ACTION: Notice.

SUMMARY: Notice is hereby given that the Office of Research Integrity (ORI) and the Assistant Secretary for Health have taken final action in the following case:

Clifford R. Robinson, Ph.D., University of Delaware: Based on the reports of investigations conducted by 3-Dimensional Pharmaceuticals, Inc. (3DP) and the University of Delaware (UD) and additional analysis conducted by ORI during its oversight review, the U.S. Public Health Service (PHS) found that Clifford R. Robinson, Ph.D., Assistant Professor, Department of Chemistry and Biochemistry, UD, engaged in misconduct in science involving research supported by National Institute of General Medical Sciences (NIGMS), National Institutes of Health (NIH), grants 1 R43 GM58950-01 and 2 R44 GM58950-02, “Four-helix bundle analog of a G-protein coupled receptor (C. Robinson, Principal Investigator [P.I.]). The following grant applications also were involved in Dr. Robinson's misconduct in science:

1 R43 GM62708-01, “Improved method for protein refolding” (C.R. Robinson, P.I.), submitted March 30, 2000; approved but not funded, withdrawn.

1 P20 RR017716-01, “Design of hierarchical recognition motifs,” Project V, “Determinants of stability and assembly of integral membrane proteins” (C.R. Robinson, Project Investigator), submitted March 1, 2002, funded September 16, 2002, to August 30, 2007.

1 R01 GM074789-01, “Folding and stability of integral membrane proteins” (C.R. Robinson, P.I.), submitted October 1, 2004; scored not competitive, not funded.

1 R01 GM075891-01, “Membrane protein expression, solubilization, and refolding” (C.R. Robinson, P.I.), submitted January 24, 2005; approved but not funded, pending.

1 R21 GM07953-01, “Mini-receptor analogs of GPCRs” (C.R. Robinson, P.I.), submitted January 25, 2005; not funded.

Specifically, PHS found that Dr. Robinson engaged in the following acts of misconduct in science. With regard to the following paragraphs numbered 1-6, nothing herein shall be deemed as an admission of liability on the part of Dr. Robinson.

1. While at 3DP, Dr. Robinson systematically substituted crystallized chicken ovalbumin in place of β2-AR-NQ and repeatedly provided these crystalline preparations to other scientists to conduct molecular analyses. Dr. Robinson made false claims about his progress on characterizing β2-AR-NQ and falsely claimed to have supplied purified β2-AR-NQ to 3DP staff in project team meetings (PTM) held on at least five occasions between July 14, 1998, and July 7, 1999.

2. Dr. Robinson made multiple false claims about his research on β2-AR-NQ in NIH grant applications R44 GM58950-02, submitted April 1, 1999, supplemental material for the same application submitted on July 7, 1999, and NIH grant application R43 GM62708-01, submitted March 30, 2000.

3. Dr. Robinson made similar claims as in item 1 above concerning the wild type form of β2-AR, by substituting canine ovalbumin. Dr. Robinson's false claims were made to 3DP staff at PTM meetings on at least three occasions between September 7, 1999, and March 30, 2000, and in NIH grant application R43 GM62708-01, and after moving to UD, in NIH grant application 1 P20 RR017716-01, submitted on March 1, 2002.

4. Dr. Robinson was unable to adequately produce recombinant β2-AR in E. coli and made false claims at PTM meetings in September and October 1999 that he had successfully expressed active protein and had purified it for crystallization trials. Dr. Robinson also made false claims in NIH grant applications R43 GM62708-01 and 1 R01 GM07589-01, submitted January 24, 2005, that he had purified large amounts of β2-AR-NQ from E. coli and that he had reconstituted the protein into its native biologically active form.

5. Dr. Robinson made false claims about his ability to produce, purify, and characterize a recombinant fragment of β2-AR-NQ containing four transmembrane domains (β2-AR-4HB) at PTM meetings in October 1998 and in NIH grant applications R44 GM58950-02 and 1 P20 RR017716-01.

6. Dr. Robinson falsified fluorescence spectra and circular dichroism measurements in Figure 7 (both left and right panels) of NIH grant application R44 GM58950-02 by substituting results obtained with different proteins.

7. After moving to UD, Dr. Robinson made false claims in NIH grant application 1 P20 RR017716-01, including presenting falsified data in both panels of Figures V.5 (fluorescence spectra and circular dichroism measurements) and V.9 (falsified experimental conditions).

8. While at UD, Dr. Robinson falsified circular dichroism and fluorescence data in NIH grant application 1 R01 GM074789-01 (Figures 5A, 5B, and 6) and circular dichroism data in NIH grant applications 1 R01 GM075891-01 (Figure 6) and 1 R21 GM075953-01 (Figure 5).

9. In presentations at the Biophysical Society annual meeting and a Cornell University Consortium meeting, both in 1999, Dr. Robinson falsely represented data obtained with cytochrome b562 as being obtained with β2-AR.

Dr. Robinson has entered into a Voluntary Exclusion Agreement in which he has voluntarily agreed, for a period of five (5) years, beginning on October 23, 2006:

(1) To exclude himself from any contracting or subcontracting with any agency of the United States Government and from eligibility for or involvement in nonprocurement programs of the United States Government as defined in the debarment regulations at 45 CFR Part 76; and

(2) to exclude himself from serving in any advisory capacity to PHS, including but not limited to service on any PHS advisory committee, board, and/or peer review committee, or as a consultant.

FOR FURTHER INFORMATION CONTACT: Director, Division of Investigative Oversight, Office of Research Integrity, 1101 Wootton Parkway, Suite 750, Rockville, MD 20852, (240) 453-8800.

Chris B. Pascal,
Director, Office of Research Integrity.

[FR Doc. E6-19888 Filed 11-22-06; 8:45 am]

BILLING CODE 4150-31-P